DEPARTMENT OF COMMERCE

International Trade Administration

[A-588-068]

Prestressed Concrete Wire Strand From Japan; Final Results of Expedited Sunset Review of Antidumping Finding

AGENCY: Import Administration, International Trade Administration, Department of Commerce.

ACTION: Notice of final results of expedited sunset review of antidumping finding on prestressed concrete wire strand from Japan.

SUMMARY: On January 2, 2004, the Department of Commerce (“the Department”) published the notice of initiation of sunset review on Prestressed Concrete Wire Strand from Japan. On the basis of the notice of intent to participate, and the adequate substantive comments filed on behalf of a domestic interested party and inadequate response (in this case, no response) from respondent interested party, we determined to conduct an expedited 120-day, sunset review. As a result of this review, we find that revocation of the antidumping duty finding would be likely to lead to continuation or recurrence of dumping at the levels listed below in the section entitled “Final Results of Review.”

DATES: Effective Date: May 7, 2004.

FOR FURTHER INFORMATION CONTACT: Alessandra Cortez or Ozlem Koray, Office of Policy for Import Administration, International Trade Administration, U.S. Department of Commerce, 14th Street and Constitution Avenue, NW., Washington, DC, 20230; telephone: (202) 482-5925 or (202) 482-3675.

SUPPLEMENTARY INFORMATION:

Background

On January 2, 2004, the Department published the notice of initiation of a sunset review of the antidumping finding on Prestressed Concrete Wire Strand from Japan pursuant to section 751(c) of the Tariff Act of 1930, as amended (the “Act”).¹ On January 16, 2004, the Department received the Notice of Intent to Participate on behalf of American Spring Wire Corporation, Insteel Wire Products Company and Sumiden Wire Products Corporation (collectively, “the domestic interested parties”), within the deadline specified in section 351.218(d)(1)(i) of the Department's regulations. The domestic interested parties claimed interested party status under section 771(9)(C) of the Act, as U.S. producers of a domestic like product. We received a complete substantive response in the sunset review from the domestic interested parties within the 30-day deadline specified in the Department's regulations under section 351.218(d)(3)(i).

¹ Initiation of Five-Year (Sunset) Reviews, 69 FR 50 (January 2, 2004) (“Initiation Notice”). Although the initiation notice states that the sunset review is “of antidumping duty orders,” the Department hereby corrects the inadvertent misstatement to reference the original “finding” on steel wire strand from Japan, as originally stated in the Treasury Decision. See Treasury Decision 78-478 (Finding of Dumping), 43 FR 57599 (December 8, 1978).

We did not receive a substantive response from any respondent interested party to this proceeding. As a result, pursuant to section 751(c)(3)(B) of the Act and section 351.218(e)(1)(ii)(C) of the Department's regulations, the Department conducted an expedited, 120-day review of this finding.

Scope of Review

The products covered in this sunset review are shipments of steel wire strand, other than alloy steel, not galvanized, which are stress-relieved and suitable for use in prestressed concrete. Such merchandise is currently classifiable under Harmonized Tariff Schedule (HTS) item number 7312.10.30.12. The HTS item number is provided for convenience and Customs purposes. The written description remains dispositive.

Analysis of Comments Received

All issues raised in this case by the domestic interested parties are addressed in the “Issues and Decision Memorandum” (“Decision Memo”) from Ronald K. Lorentzen, Acting Director, Office of Policy, Import Administration, to James J. Jochum, Assistant Secretary for Import Administration, dated May 3, 2004, which is hereby adopted by this notice. The issues discussed in the Decision Memo include the likelihood of continuation or recurrence of dumping and the magnitude of the margin likely to prevail if the finding was to be revoked. Parties can find a complete discussion of all issues raised in this review and the corresponding recommendations in this public memorandum, which is on file in room B-099, Central Records Unit of the Department.

In addition, a complete version of the Decision Memo can be accessed directly on the Web at http://ia.ita.doc.gov/frn, under the heading “May 2004.” The paper copy and electronic version of the Decision Memorandum are identical in content.

Final Results of Review

We determine that revocation of the antidumping finding on Prestressed Concrete Wire Strand from Japan would be likely to lead to continuation or recurrence of dumping at the following percentage weighted-average margins:

Japan manufacturers/exporters | Weighted-average margin percent
Shinko Wire Co., Ltd | 13.3.
Suzuki Metal Industry Co., Ltd | 6.9.
Tokyo Rope Manufacturing Co., Ltd | 4.5.
Sumitomo | Revoked.
Kawasaki Steel Techno-Wire | Revoked.
All Others | 9.76.

This notice also serves as the only reminder to parties subject to administrative protective orders (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: May 3, 2004.
Joseph A. Spetrini,
Acting Assistant Secretary for Import Administration.

[FR Doc. 04-10485 Filed 5-6-04; 8:45 am]

BILLING CODE 3510-DS-P